SMALL BUSINESS ADMINISTRATION

Region 1—Maine District Advisory Council; Public Meeting

The U.S. Small Business Administration Region 1 Advisory Council, located in the geographical area of Augusta, Maine will hold a public meeting at 1:30 p.m. November 18th, 2003 at the University of Southern Maine, 68 High Street, Room 118, Portland, Maine to discuss such matters as may be presented by members, staff of the U.S. Small Business Administration, or others present.

For further information, write or call Mary McAleney, District Director, U.S. Small Business Administration, 68 Sewall Street, Room 512, Augusta, Maine 04330, (207)-622-8386 phone, (207)-622-8277 fax.

Scott R. Morris,
Deputy Chief of Staff.

[FR Doc. 03-27420 Filed 10-30-03; 8:45 am]

BILLING CODE 8025-01-P